DEPARTMENT OF COMMERCE

International Trade Administration

[A-570-910]

Circular Welded Carbon Quality Steel Pipe From the People's Republic of China: Final Results of Antidumping Duty Administrative Review; 2017-2018

AGENCY: Enforcement and Compliance, International Trade Administration, Department of Commerce.

SUMMARY: The Department of Commerce (Commerce) continues to determine that none of the companies under review have demonstrated eligibility for a separate rate during the period of review (POR) July 1, 2017 through June 30, 2018.

DATES: Applicable September 19, 2019.

FOR FURTHER INFORMATION CONTACT: Aleksandras Nakutis, AD/CVD Operations, Office IV, Enforcement & Compliance, International Trade Administration, U.S. Department of Commerce, 1401 Constitution Avenue NW, Washington, DC 20230; telephone: (202) 482-3147.

SUPPLEMENTARY INFORMATION:

Background

On May 20, 2019, Commerce published its Preliminary Results of the administrative review of the antidumping duty order on circular welded carbon quality steel pipe from the People's Republic of China (China) for 122 companies covering the July 1, 2017 through June 30, 2018 POR.¹ Although invited to do so, interested parties did not comment on our Preliminary Results.

¹ See Circular Welded Carbon Quality Steel Pipe from the People's Republic of China: Preliminary Results of Antidumping Duty Administrative Review and Partial Rescission; 2017-2018, 84 FR 22817 (May 20, 2019) (Preliminary Results).

Scope of the Order

The merchandise subject to the order is certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specification (e.g., ASTM, proprietary, or other), generally known as standard pipe and structural pipe (they may also be referred to as circular, structural, or mechanical tubing).

The pipe products that are the subject of the order are currently classifiable in Harmonized Tariff Schedule of the United States (HTSUS) statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the HTSUS classification, is dispositive of whether merchandise imported into the United States falls within the scope of the order.²

² For a complete description of the scope of the order, see Memorandum, “Decision Memorandum for the Preliminary Results of the Antidumping Duty Administrative Review of Circular Welded Carbon Quality Steel Pipe from the People's Republic of China,” dated May 13, 2019 (Preliminary Decision Memorandum).

Analysis

As noted above, no parties commented on the Preliminary Results. Therefore, we are adopting the decisions in the Preliminary Decision Memorandum for these final results of review. In the Preliminary Results, Commerce determined that all 122 companies under review did not establish their eligibility for a separate rate and are part of the China-wide entity.³ For these final results of review, we have continued to treat the 122 companies under review as part of the China-wide entity. Because no party requested a review of the China-wide entity, we are not conducting a review of the China-wide entity,⁴ and thus, there is no change to its antidumping duty rate. The existing antidumping duty rate for the China-wide entity is 85.55 percent.⁵

³ See Preliminary Results, 84 FR at 22817.

⁴ See Antidumping Proceedings: Announcement of Change in Department Practice for Respondent Selection in Antidumping Duty Proceedings and Conditional Review of the Nonmarket Economy Entity in NME Antidumping Duty Proceedings, 78 FR 65963, 65969-70 (November 4, 2013).

⁵ See Circular Welded Carbon Quality Steel Pipe from the People's Republic of China: Final Results of the Expedited Second Sunset Review of the Antidumping Duty Order, 84 FR 15584 (April 16, 2019) (Second Sunset).

For additional details, see the Preliminary Decision Memorandum, which is a public document and is on file electronically via Enforcement and Compliance's Antidumping and Countervailing Duty Centralized Electronic Service System (ACCESS). ACCESS is available to registered users at http://access.trade.gov and in the Central Records Unit, room B8024 of the main Commerce building. In addition, a complete version of the Preliminary Decision Memorandum can be accessed directly at http://enforcement.trade.gov/frn/index.html. The signed and the electronic versions of the Preliminary Decision Memorandum are identical in content.

Assessment Rates

Pursuant to section 751(a)(2)(C) Tariff Act of 1930, as amended (the Act), and 19 CFR 351.212(b), Commerce has determined, and U.S. Customs and Border Protection (CBP) shall assess, antidumping duties on all appropriate entries of subject merchandise in accordance with the final results of this review. Commerce intends to instruct CBP to liquidate entries of subject merchandise during this POR from the 122 companies under review at the China-wide rate. Commerce intends to issue assessment instructions to CBP 15 days after the publication date of the final results of this review.

Cash Deposit Requirements

The following cash deposit requirements will be effective upon publication of the final results of this administrative review for shipments of subject merchandise from China entered, or withdrawn from warehouse, for consumption on or after the publication date in the Federal Register of the final results of this review, as provided by section 751(a)(2)(C) of the Act: (1) For previously investigated or reviewed China and non-China exporters which are not under review in this segment of the proceeding but which received a separate rate in a prior segment of this proceeding, the cash deposit rate will continue to be the existing exporter-specific rate; (2) for all China exporters of subject merchandise that have not been found to be entitled to a separate rate, the cash deposit rate will be the rate for the China-wide entity, which is 85.55 percent; ⁶ and (3) for all non-China exporters of subject merchandise which have not received their own rate, the cash deposit rate will be the rate applicable to the Chinese exporter that supplied that non-China exporter.

⁶ See Second Sunset, 84 FR at 15584.

These deposit requirements, when imposed, shall remain in effect until further notice.

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751(a)(1) and 777(i) of the Act and 19 CFR 351.213 and 19 CFR 351.221(b)(5).

Dated: September 11, 2019.
Jeffrey I. Kessler,
Assistant Secretary for Enforcement and Compliance.

[FR Doc. 2019-20233 Filed 9-18-19; 8:45 am]

BILLING CODE 3510-DS-P